ENVIRONMENTAL PROTECTION AGENCY

40 CFR Part 52

[EPA-R03-OAR-2011-0491; EPA-R03-OAR-2011-0570; FRL-9480-5]

Approval and Promulgation of Air Quality Implementation Plans; Maryland; Adhesives and Sealants Rule

AGENCY: Environmental Protection Agency (EPA).

ACTION: Final rule.

SUMMARY: EPA is approving a State Implementation Plan (SIP) revision submitted by the State of Maryland. This SIP revision pertains to amendments to Maryland's rule for the control of volatile organic compound (VOC) emissions from chemical production and polytetrafluoroethylene operations; from paint, resin, and adhesive manufacturing; and from adhesive and sealant application. This SIP revision also pertains to an addition of a new regulation for the control of VOC emissions from adhesives and sealants. EPA is approving this SIP revision to meet the requirements of a reasonably available control technology (RACT) rule for the miscellaneous industrial adhesives control techniques guideline (CTG) category in accordance with the requirements of the Clean Air Act (CAA).

DATES: Effective Date: This final rule is effective on November 17, 2011.

ADDRESSES: EPA has established a docket for this action under Docket ID Numbers EPA-R03-OAR-2011-0491 and EPA-R03-OAR-2011-0570. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Rose Quinto, (215) 814-2182 or by e-mail at quinto.rose@epa.gov.

SUPPLEMENTARY INFORMATION:

I. Background

On August 19, 2011 (76 FR 51925), EPA published a notice of proposed rulemaking (NPR) for the State of Maryland. The NPR proposed approval of Maryland's adhesives and sealants rule. The formal SIP revisions (#08-02, #09-01, and #10-06) were submitted by the State of Maryland on April 18, 2008, May 28, 2009, and April 22, 2010.

II. Summary of SIP Revision

The SIP revisions consist of the following: (1) Amendments to COMAR 26.11.19.30 “Control of VOC from Chemical Production and Polytetrafluoroethylene Operations;” (2) a new regulation for inclusion into the Maryland SIP—COMAR 26.11.35 “Control of VOC Emissions from Adhesives and Sealants;” (3) amendments to Regulation .01 under COMAR 26.11.35 by exempting single-ply roof membrane installation and repair adhesives, single-ply roof membrane sealants, and single ply-roof membrane adhesive primers from standards for VOC content during non-ozone seasons through 2011 and throughout the year of 2012; (4) amendments to Regulation .15A under COMAR 26.11.19 “VOCs from Specific Processes,” by adding new definitions; and (5) amendments to Regulation .15C(4) under COMAR 26.11.19 by repealing the general emission standard for adhesives and replacing it with the source-specific VOC RACT emission limitation for the application of adhesives and sealants to specialty electronic systems and subsystems for defense and homeland security. These SIP revisions meet the requirement to adopt a RACT for the miscellaneous industrial adhesives CTG category. Other specific requirements and the rationale for EPA's proposed action are explained in the NPR and will not be restated here. No public comments were received on the NPR.

III. Final Action

EPA is approving the adhesives and sealants rule as a revision to the Maryland SIP. This SIP revision meets the requirement to adopt RACT for the miscellaneous industrial adhesives CTG category.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 19, 2011. Filing a petition for reconsideration by the Administrator of this final rule does not affect the finality of this action for the purposes of judicial review nor does it extend the time within which a petition for judicial review may be filed, and shall not postpone the effectiveness of such rule or action. This action pertaining to Maryland's adhesives and sealants rule, may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: October 3, 2011.
W.C. Early,
Acting Regional Administrator, Region III.

40 CFR part 52 is amended as follows:

PART 52—[AMENDED]

1. The authority citation for part 52 continues to read as follows:

Authority: 42 U.S.C. 7401 et seq.

Subpart V—Maryland

2. In § 52.1070, the table in paragraph (c) is amended by revising entries for COMAR 26.11.19.15 and COMAR 26.11.19.30, and adding an entry for COMAR 26.11.35 to read as follows:

§ 52.1070 Identification of plan.

* * * * *

(c) * * *

EPA-Approved Regulations in the Maryland SIP
Code of Maryland administrative regulations (COMAR) citation | Title/subject | State effective date | EPA approval date | Additional explanation/citation at 40CFR 52.1100
* * * * * * *
26.11.19 Control of Volatile Organic Compounds from Specific Processes
* * * * * * *
26.11.19.15 | Paint, Resin, and Adhesive Manufacturing and Adhesive and Sealant Applications | 4/19/10 | 10/18/11 [Insert page number where the document begins] | Amendments to Sections .15A and .15C.
* * * * * * *
26.11.19.30 | Control of Volatile Organic Compounds from Chemical Production and Flouropolymer Material Installations | 4/21/08 | 10/18/11[Insert page number where the document begins] | Amendments to Sections .30A, .30B, .30C and .30E.
* * * * * * *
26.11.35 Volatile Organic Compounds from Adhesives and Sealants
26.11.35.01 | Applicability and Exemptions | 4/21/08 6/1/09 | 10/18/11 [Insert page number where the document begins] | New Section.
26.11.35.02 | Incorporation by Reference | 4/21/08 | 10/18/11 [Insert page number where the document begins] | New Section.
26.11.35.03 | Definitions | 4/21/08 | 10/18/11 [Insert page number where the document begins] | New Section.
26.11.35.04 | Standards | 4/21/08 | 10/18/11 [Insert page number where the document begins] | New Section.
26.11.35.05 | Administrative Requirements | 4/21/08 | 10/18/11 [Insert page number where the document begins] | New Section.
26.11.35.06 | Compliance Procedures and Test Methods | 4/21/08 | 10/18/11 [Insert page number where the document begins] | New Section.
26.11.35.07 | Container Labeling | 4/21/08 | 10/18/11 [Insert page number where the document begins] | New Section.
| * * * * * * *

* * * * *

[FR Doc. 2011-26900 Filed 10-17-11; 8:45 am]

BILLING CODE 6560-50-P